DEPARTMENT OF TRANSPORTATION

National Highway Traffic Safety Administration

[Docket No. NHTSA-2021-0002]

New Car Assessment Program; Request for Comments; Extension of Comment Period

AGENCY: National Highway Traffic Safety Administration (NHTSA), Department of Transportation (DOT).

ACTION: Extension of comment period.

SUMMARY: NHTSA received two petitions to extend the comment period for a Request for comments (RFC) notice on significant updates to the New Car Assessment Program (NCAP). Pursuant to fulfilling the FAST Act directive and the Bipartisan Infrastructure Law, NHTSA published an RFC notice announcing its current and future plans for updating NCAP on March 9, 2022. The comment period for the RFC notice was scheduled to end on May 9, 2022. NHTSA is extending the comment period for the March 9, 2022 RFC notice by 30 days.

DATES: The comment period for the RFC notice published on March 9, 2022 is extended to June 8, 2022.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue SE, between 9 a.m. and 5 p.m. Eastern Time, Monday through Friday, except Federal holidays. To be sure someone is there to help you, please call (202) 366-9332 before coming.

• Fax: 202-493-2251.

Regardless of how you submit your comments, please mention the docket number identified in the heading of this document.

Note that all comments received will be posted without change to http://www.regulations.gov, including any personal information provided.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, the Agency encourages commenters to provide their name, or the name of their organization; however, submission of names is completely optional. Whether or not commenters identify themselves, all timely comments will be fully considered.

Docket: For access to the docket to read background documents or comments received, go to www.regulations.gov, or the street address listed above. To be sure someone is there to help you, please call (202) 366-9332 before coming. Follow the online instructions for accessing the dockets.

FOR FURTHER INFORMATION CONTACT: For technical issues, you may contact Ms. Jennifer N. Dang, Division Chief, New Car Assessment Program, Office of Crashworthiness Standards (telephone: 202-366-1810). For legal issues, you may call Mr. Daniel Koblenz, Office of Chief Counsel (telephone: 202-366-2992). Address: National Highway Traffic Safety Administration, U.S. Department of Transportation, 1200 New Jersey Avenue SE, West Building, Washington, DC 20590.

SUPPLEMENTARY INFORMATION: On March 9, 2022, pursuant to fulfilling the FAST Act directive and section 24213 of the Bipartisan Infrastructure Law, NHTSA published an RFC notice announcing its current and future plans for updating NCAP (87 FR 13452). The RFC notice included significant upgrades to NCAP, including (1) proposing to add four new advanced driver assistance system (ADAS) technologies, (2) proposing to strengthen the current test procedures for certain existing ADAS technologies, (3) proposing a near- and long-term roadmap for future NCAP updates, (4) discussing various approaches on the development of a new rating system for ADAS technologies, (5) discussing the rulemaking process to update the NCAP safety information on the Monroney label that includes a comprehensive consumer research, and (6) seeking comment on emerging technologies to help people make safe driving choices. The comment period for the RFC notice is scheduled to end on May 9, 2022.

Comment Period Extension Requests

The Alliance for Automotive Innovation and the Motor & Equipment Manufacturers Association submitted a joint letter on March 25, 2022, requesting a 30-day extension of the comment period. The requestors state that the RFC notice addresses several complex topics that would require conducting in-depth review and analysis to develop informed feedback. They suggest the additional time would allow them to conduct the detailed review of the notice and develop responses to the more than 100 questions and issues included in the notice. The requestors state that the additional time would allow for more fully developed feedback to support the agency's next steps.

In a joint letter submitted to the Agency on April 15, 2022, Advocates for Highway and Auto Safety, Center for Auto Safety, Public Citizen, National Association of Mutual Insurance Companies, Kids & Cars Safety, Vision Zero Network, Insurance Institute for Highway Safety, Society for the Advancement of Violence and Industry Research, and Families for Safe Streets, request a 60-day extension of the comment period. The requestors state that the RFC notice raises numerous complex technical and policy issues that requires significant analysis. They note that extending the comment period is in the public interest as it would permit the public with sufficient time to provide specific and thorough feedback on the many substantial questions raised in the notice, and provide the requesters with time to consult with a variety of experts and stakeholders.

Agency Decision

Pursuant to 49 CFR 553.19 and after thorough consideration of the requests with various extension periods, NHTSA determined that the requestors have provided sufficient justification for an extension, and that the extension is consistent with the public interest (49 CFR 553.19). NHTSA agrees that allowing additional time for the public and its stakeholders to provide comments to the many questions raised in the RFC notice would better inform NHTSA on its final decision on the various program areas and topics discussed in the RFC notice. Therefore, NHTSA is granting the aforementioned requests to extend the comment period; however, NHTSA is extending it only for 30 days. Section 24213 of the November 2021 Bipartisan Infrastructure Law, enacted as the Infrastructure Investment and Jobs Act, requires NHTSA to publish its final decision on the NCAP upgrade by November 15, 2022. A 30-day extension appropriately balances NHTSA's interest in providing the public with sufficient time to comment on the numerous questions raised in the RFC notice, with its interest to issue a final decision on the NCAP upgrade in a timely manner.

Authority: 49 U.S.C. 322, 30111, 30115, 30117, and 30166; delegation of authority at 49 CFR 1.95 and 49 CFR 501.8.

Issued in Washington, DC, under authority delegated in 49 CFR 1.95 and 501.8.
Raymond R. Posten,
Associate Administrator for Rulemaking.

[FR Doc. 2022-09831 Filed 5-5-22; 8:45 am]

BILLING CODE 4910-59-P